ENVIRONMENTAL PROTECTION AGENCY

[FRL-9263-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2355.02; Restructuring of Stationary Source Audit Program (Final Rule); 40 CFR parts 51, 60, 61, and 63, was approved on 01/03/2011; OMB Number 2060-0652; expires on 01/31/2014; Approved without change.

EPA ICR Number 2373.03; Mandatory Reporting of Greenhouse Gases (Final Rule for Additional Sources of Fluorinated Greenhouse Gases; 40 CFR part 98, subparts I, L, DD, QQ and SS; was approved on 01/03/2011; OMB Number 2060-0650; expires on 12/31/2013; Approved without change.

EPA ICR Number 1854.08; The Consolidated Air Rule (CAR) for the Synthetic Organic Chemical Manufacturing Industry (SOCMI) (Change); 40 CFR part 60, subparts Ka, Kb, VV, VVa, DDD, III, NNN, and RRR, 40 CFR part 61, subparts BB, V, and Y, 40 CFR part 63, subparts F, G, H, and I, 40 CFR part 65; was approved on 01/04/2011; OMB Number 2060-0443; expires on 02/28/2011; Approved without change.

EPA ICR Number 1176.09; NSPS for New Residential Wood Heaters; 40 CFR part 60, subparts A and AAA; was approved on 01/05/2011; OMB Number 2060-0161; expires on 01/31/2014; Approved with change.

EPA ICR Number 0116.09; Emission Control System Performance Warranty Regulations and Voluntary Aftermarket Part Certification Program (Renewal); 40 CFR part 85, subpart V; was approved on 01/05/2011; OMB Number 2060-0060; expires on 01/31/2014; Approved without change.

EPA ICR Number 2067.04; Laboratory Quality Assurance Evaluation Program for Analysis of Cryptosporidium Under the Safe Drinking Water Act; was approved on 01/05/2011; OMB Number 2040-0246; expires on 01/31/2014; Approved without change.

EPA ICR Number 0138.09; Modification of Secondary Treatment Requirements for Discharges into Marine Waters (Renewal); 40 CFR part 125, subpart G; was approved on 01/05/2011; OMB Number 2040-0088; expires on 01/31/2014; Approved without change.

EPA ICR Number 2169.04; Cooling Water Intake Structures at Phase III Facilities (Renewal); 40 CFR 125.33 and 125.131; was approved on 01/05/2011; OMB Number 2040-0268; expires on 01/31/2014; Approved without change.

EPA ICR Number 1569.07; Approval of State Coastal Nonpoint Pollution Control Programs (Renewal); 15 CFR part 923; was approved on 01/06/2011; OMB Number 2040-0153; expires on 01/31/2014; Approved without change.

EPA ICR Number 2192.03; Unregulated Contaminant Monitoring in Public Water Systems (Renewal); 40 CFR 141.35 and 141.40; was approved on 01/06/2011; OMB Number 2040-0270; expires on 01/31/2014; Approved without change.

EPA ICR Number 2365.02; Chesapeake Action Plan/Activity Integration Plan (CAP/AIP) Reporting System; was approved on 01/06/2011; OMB Number 2003-0001; expires on 01/31/2014; Approved without change.

EPA ICR Number 1500.07; National Estuary Program (Renewal); 40 CFR 35.9040 and 35.9045; was approved on 01/06/2011; OMB Number 2040-0138; expires on 01/31/2014; Approved without change.

EPA ICR Number 2231.02; Contaminant Occurrence Data in Support of EPA's Second Six-Year Review of National Primary Drinking Water Regulations (Renewal); was approved on 01/06/2011; OMB Number 2040-0275; expires on 01/31/2014; Approved without change.

EPA ICR Number 0220.11; Clean Water Act Section 404 State-Assumed Programs (Renewal); 33 CFR part 325 and 40 CFR part 233; was approved on 01/06/2011; OMB Number 2040-0168; expires on 01/31/2014; Approved without change.

EPA ICR Number 2060.04; Cooling Water Intake Structures Phase II Existing Facility (Renewal); 40 CFR 122.21(d)(2), 122.21(r)(2), 122.21(r)(3), 122.21(r)(5), and 125.94-125.99, was approved on 01/06/2011; OMB Number 2040-0257; expires on 01/31/2014; Approved without change.

EPA ICR Number 0234.10; Performance Evaluation Studies on Wastewater Laboratories (Renewal); was approved on 01/06/2011; OMB Number 2080-0021; expires on 01/31/2014; Approved without change.

EPA ICR Number 1989.07; NPDES Animal Sectors (Renewal); 40 CFR 122.21, 122.22, 122.23, 122.28, 122.41, and 122.42, and 40 CFR part 412, was approved on 01/07/2011; OMB Number 2040-0250; expires on 01/31/2014; Approved without change.

EPA ICR Number 1907.05; Recordkeeping and Reporting Requirements Regarding the Sulfur Content of Motor Vehicle Gasoline under the Tier 2 Rule; 40 CFR 80.210, 80.219, 80.270, 80.330, 80.340, 80.370, 80.380, 80.400, and 80.415; was approved on 01/10/2011; OMB Number 2060-0437; expires on 01/31/2014; Approved without change.

EPA ICR Number 1445.09; Continuous Release Reporting Regulations (CRRR) under CERCLA; 40 CFR 302.8; was approved on 01/11/2011; OMB Number 2050-0086; expires on 12/31/2011; Approved without change.

EPA ICR Number 1445.10; Continuous Release Reporting Regulations (CRRR) under CERCLA; 40 CFR 302.8; was approved on 01/12/2011; OMB Number 2050-0086; expires on 12/31/2011; Approved without change.

EPA ICR Number 1230.28; Prevention of Significant Deterioration and Non-Attainment New Source Review (Change Worksheet for Tailoring Rule and SIP Fix Implementation Rule); 40 CFR 51.160-51.166, 52.21, 52.24, and 40 CFR part 51 Appendix S; was approved on 01/13/2011; OMB Number 2060-0003; expires on 04/30/2012; Approved without change.

EPA ICR Number 2400.01; NESHAP for Secondary Aluminum Production Residual Risk and Technology Review (RTR); 40 CFR part 63, subpart RRR; was approved on 01/19/2011; OMB Number 2060-0653; expires on 01/31/2014; Approved with change.

EPA ICR Number 1665.11; Confidentiality Rules (Renewal); 40 CFR part 2, subparts A and B; was approved on 01/19/2011; OMB Number 2020-0003; expires on 01/31/2014; Approved without change.

EPA ICR Number 2376.03; Regulation to Establish Mandatory Reporting of Greenhouse Gases (Change Worksheet for Petroleum and Natural Gas, Subpart W); 40 CFR part 98, subpart W; was approved on 01/31/2011; OMB Number 2060-0651; expires on 12/31/2013; Approved without change.

Comment Filed

EPA ICR Number 1626.12; National Recycling and Emissions Reduction Program (Proposed Rule); in 40 CFR part 82, subpart F; OMB filed comment on 01/03/2011.

EPA ICR Number 2408.01; Recordkeeping and Reporting Related to E15 (Proposed Rule); in 40 CFR part 80; OMB filed comment on 01/05/2011.

EPA ICR Number 1895.06; Revisions to the Total Coliform Rule (Proposed Rule); in 40 CFR parts 141 and 142; OMB filed comment on 01/06/2011.

Withdrawn and Continue

EPA ICR Number 1445.08; Continuous Release Reporting Regulations (CRRR) under CERCLA (Change); Withdrawn from OMB on 01/10/2011.

EPA ICR Number 1287.10; Recognition Application for Sustainable Water Leadership Program (Renewal); Withdrawn from OMB on 01/10/2011.

Dated: February 1, 2011.
John Moses,
Director, Collections Strategies Division.

[FR Doc. 2011-2777 Filed 2-7-11; 8:45 am]

BILLING CODE 6560-50-P